NUCLEAR REGULATORY COMMISSION

Notice of Issuance of Regulatory Guide

AGENCY: Nuclear Regulatory Commission.

ACTION: Notice of Issuance and Availability of Regulatory Guide 3.65, Revision 1.

FOR FURTHER INFORMATION CONTACT: Mark Orr, Regulatory Guide Development Branch, Division of Engineering, Office of Nuclear Regulatory Research, U.S. Nuclear Regulatory Commission, Washington, DC 20555-0001, telephone (301) 415-6373 or e-mail to Mark.Orr@nrc.gov.

SUPPLEMENTARY INFORMATION:

I. Introduction

The U.S. Nuclear Regulatory Commission (NRC) has issued revisions to existing guides in the agency's “Regulatory Guide” series. This series was developed to describe and make available to the public information such as methods that are acceptable to the NRC staff for implementing specific parts of the agency's regulations, techniques that the staff uses in evaluating specific problems or postulated accidents, and data that the staff needs in its review of applications for permits and licenses.

Revision 1 of Regulatory Guide 3.65, “Standard Format and Content of Decommissioning Plans for Materials Licensees,” was issued with a temporary identification as Draft Regulatory Guide DG-3027. This regulatory guide provides guidance on decommissioning leading to termination of a materials license. Licensees decommissioning their facilities are required to demonstrate to the NRC that their proposed methods will ensure that decommissioning activities can be conducted safely, and that, at the completion of decommissioning activities, the facility will comply with NRC requirements for license termination as described in Title 10 of the Code of Federal Regulations (10 CFR). In particular, licensees are required to demonstrate compliance with the following parts of 10 CFR:

• Part 30, “Rules of General Applicability to Domestic Licensing of Byproduct Material”;

• Part 40, “Domestic Licensing of Source Material”;

• Part 60, “Disposal of High-Level Radioactive Wastes in Geologic Repositories”;

• Part 61, “Licensing Requirements for Land Disposal of Radioactive Waste”;

• Part 63, “Disposal of High-Level Radioactive Wastes in a Geologic Repository at Yucca Mountain, Nevada”;

• Part 70, “Domestic Licensing of Special Nuclear Material”;

• Part 72, “Licensing Requirements for the Independent Storage of Spent Nuclear Fuel and High-Level Radioactive Waste, and Reactor Related Greater Than Class C Waste”.

This regulatory guide endorses the method described in the current version of NUREG-1757, Volume 1, “Consolidated Decommissioning Guidance: Decommissioning Process for Materials Licensees,” as a process that has been found acceptable to the NRC for meeting the regulatory requirements for decommissioning of materials facilities licensed under 10 CFR parts 30, 40, 70, 72 and to the ancillary surface facilities that support radioactive waste disposal activities licensed under 10 CFR parts 60, 61, and 63.

II. Further Information

In February 2008, DG-3027 was published with a public comment period of 60 days from the issuance of the guide. The public comment period closed on April 18, 2008. Electronic copies of Regulatory Guide 3.65, Revision 1 are available through the NRC's public Web site under “Regulatory Guides” at http://www.nrc.gov/reading-rm/doc-collections/.

In addition, regulatory guides are available for inspection at the NRC's Public Document Room (PDR), which is located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr@nrc.gov.

Regulatory guides are not copyrighted, and NRC approval is not required to reproduce them.

Dated at Rockville, Maryland, this 22th day of May, 2008.
For the Nuclear Regulatory Commission.
Andrea D. Valentin,
Chief, Regulatory Guide Development Branch, Division of Engineering, Office of Nuclear Regulatory Research.

[FR Doc. E8-12145 Filed 5-29-08; 8:45 am]

BILLING CODE 7590-01-P